ENVIRONMENTAL PROTECTION AGENCY

[ER-FRL-8939-9]

Public Comment Requested on the Draft Environmental Impact Statement for the Proposed Site Designation of an Ocean Dredged Material Disposal Site Offshore of Guam

AGENCY: Environmental Protection Agency (EPA).

ACTION: Notice.

SUMMARY: Notice of Availability and request for public comment on a draft Environmental Impact Statement (EIS) to designate a permanent ocean dredged material disposal site (ODMDS) off Apra Harbor, Guam. EPA has the authority to designate ODMDS under Section 102 of the Marine Protection, Research and Sanctuaries Act (MPRSA) of 1972 (33 U.S.C. 1401 et seq.). The U.S. Department of Navy, as a cooperating agency for this action, received Congressional appropriations to fund this site designation, and managed contracts for field studies identified by EPA for the preparation of the draft EIS.

DATES: Public comments on this draft EIS evaluation will be accepted until October 6, 2009.

ADDRESSES: Submit comments to: Mr. Allan Ota, U.S. Environmental Protection Agency, Region 9, Dredging and Sediment Management Team (WTR-8), 75 Hawthorne Street, San Francisco, California 94105-3901, Telephone: (415) 972-3476 or Fax: (415) 947-3537, or E-mail: ota.allan@epa.gov.

FOR FURTHER INFORMATION CONTACT: Mr. Allan Ota, U.S. Environmental Protection Agency, Region 9, Dredging and Sediment Management Team (WTR-8), 75 Hawthorne Street, San Francisco, California 94105-3901, Telephone: (415) 972-3476 or Fax: (415) 947-3537, or E-mail: ota.allan@epa.gov.

SUPPLEMENTARY INFORMATION: EPA requests public comments and intends to conduct a public meeting in Guam to collect comments on the draft EIS, titled “Designation of an Ocean Dredged Material Disposal Site Offshore of Guam”. Copies of this draft EIS may be viewed at the following locations:

1. Guam EPA's Main Office, 17-3304 Mariner Avenue, Tiyan, Guam 96913.

2. Nieves M. Flores Memorial Public Library, 254 Martyr Street, Hagatna, Guam 96910.

3. Barrigada Public Library, 177 San Roque Drive, Barrigada, Guam 96913.

4. Dededo Public Library, 283 West Santa Barbara Avenue, Dededo, Guam 96929.

5. Maria R. Aguigui Memorial Library (Agat Public Library), 376 Cruz Avenue, Guam 96915.

6. Rosa Aguigui Reyes Memorial Library (Merizo Public Library), 376 Cruz Avenue, Merizo, Guam 96915.

7. Yona Public Library, 265 Sister Mary Eucharita Drive, Yona, Guam 96915.

8. U.S. Environmental Protection Agency (EPA) Library, 75 Hawthorne Street, 13th Floor, San Francisco, CA 94105.

9. U.S. EPA Web site: http://www.epa.gov/region9/.

10. U.S. Army Corps of Engineers' Web site: http://www.poh.usace.army.mil.

Background: Dredging is essential for maintaining safe navigation at port and naval facilities in Apra Harbor and other locations around Guam. Not all dredged materials are suitable for beneficial re-use (e.g., construction materials, landfill cover), and not all suitable materials can be used or can be stockpiled for future use given costs, logistical constraints, and capacity of existing land disposal sites. Therefore, there is a need to designate a permanent ODMDS offshore of Guam. No actual disposal operations are authorized by this action; and disposal can only take place after a Federal Corps permit is secured. Before ocean disposal may take place, dredging projects must demonstrate a need for ocean disposal and the proposed dredged material must be suitable (non-toxic) according to USEPA ocean dumping criteria. Alternatives to ocean disposal, including the option for beneficial re-use of dredged material, will be evaluated for each dredging project. The proposed ODMDS will be monitored periodically to ensure that the site operates as expected. This proposed site designation has been prepared pursuant to Section 102 of the Marine Protection, Research and Sanctuaries Act (MPRSA). The evaluation is based on EPA's general and specific criteria. Field studies, modeling of sediment dispersion following dredged material disposal under various scenarios, constrained areas, and economic considerations are included in the evaluation. The draft EIS contains an evaluation of potential impacts associated with the two “Action” alternatives, and the No-Action alternative. There are two alternative locations for a permanent ODMDS; either the North or Northwest alternative. The proposed North ODMDS is approximately 13.7 nautical miles offshore of Outer Apra Harbor, and in water depths ranging from 6,560 and 7,710 feet. The proposed Northwest ODMDS is approximately 8.9 nautical miles offshore of Outer Apra Harbor, and in water depths ranging from 8,200 and 9,055 feet. There would be a maximum annual disposal limit of 1,000,000 cubic yards of dredged material for whichever site is chosen. Either location has been determined to be environmentally suitable given depth and stability; however the Northwest alternative is the preferred site. The proposed ODMDS will be managed by the USEPA and U.S. Army Corps of Engineers (USACE) Honolulu District.

Comments were received during the scoping comment period and a public scoping meeting was held at the Weston Resort Guam on December 6, 2007. Revisions were made to the field sampling and data collection program (conducted in 2008) and to the analysis presented in the draft EIS to address these comments.

Public Meeting: EPA is requesting written comments on this draft EIS from federal, state, and local governments, industry, non-governmental organizations, and the general public. Comments will be accepted for 60 days, beginning with the date of this Notice. A public meeting is scheduled at the following location and date—August 20, 2009 6-8 p.m., at the Weston Resort Guam, 105 Gun Beach Road, Tumon, Guam. This meeting will consist of two parts—the first being an informational session, and the second a public hearing where the public may comment on the DEIS. Comments presented at the public hearing will be recorded and responded to in the Final EIS. If you require a reasonable accommodation for the public meeting, please contact Terisa Williams, EPA Region 9 Reasonable Accommodations Coordinator, at (415) 972-3829 or Williams.terisa@epa.gov.

Dated: July 16, 2009.
Responsible Official:
Laura Yoshii,
Acting Regional Administrator, Environmental Protection Agency, Region 9.

[FR Doc. E9-18871 Filed 8-6-09; 8:45 am]

BILLING CODE 6560-50-P